DEPARTMENT OF JUSTICE

Office of Justice Programs

[OMB Number 1121-0065]

Agency Information Collection Activities; Proposed eCollection eComments Requested; Extension of a Currently Approved Collection: National Corrections Reporting Program

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until September 13, 2021.

FOR FURTHER INFORMATION CONTACT: If you have additional comments especially on the estimated public burden or associated response time, suggestions, or need a copy of the proposed information collection instrument with instructions or additional information, please contact Danielle Kaeble, Statistician, Bureau of Justice Statistics, 810 Seventh Street NW, Washington, DC 20531 (email: Danielle.Kaeble@usdoj.gov; telephone: 202-598-1024).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension of a Currently Approved Collection.

(2) The Title of the Form/Collection: National Corrections Reporting Program. The collection includes the following parts: Prisoner Admission Report, Prisoner Release Report, Prisoners in Custody at Year-end Report, Post-Custody Community Supervision Entry Report, Post-Custody Community Supervision Exit Report.

(3) The agency form number, if any, and the applicable component of the Department sponsoring the collection: Form number(s): NCRP-1A, NCRP-1B, NCRP-1D, NCRP-1E, NCRP-1F. The applicable component within the Department of Justice is the Bureau of Justice Statistics (Corrections Unit), in the Office of Justice Programs.

(4) Affected public who will be asked or required to respond, as well as a brief abstract: Primary: 50 state departments of corrections (DOCs) and 7 parole boards (in six states and the District of Columbia). The National Corrections Reporting Program (NCRP) is the only national data collection furnishing annual individual-level information for state prisoners at five points in the incarceration process: Prison admission, prison release, annual year-end prison custody census, entry to post-custody community corrections supervision, and exits from post-custody community corrections supervision. The Bureau of Justice Statistics (BJS), the U.S. Congress, researchers, and criminal justice practitioners use these data to describe annual movements of adult offenders through state correctional systems, as well as to examine long-term trends in time served in prison, demographic and offense characteristics of inmates, sentencing practices in the states that submit data, transitions between incarceration and community corrections, and recidivism. Providers of the data are personnel in the states' Departments of Corrections and Parole, and all data are submitted on a voluntary basis. The NCRP collects the following administrative data on each inmate in participating states' custody:

• County of sentencing

• State and federal inmate identification numbers

• Dates of: Birth, prison admission, prison release, projected prison release, mandatory prison release, eligibility hearing for post-custody community corrections supervision, post-custody community corrections supervision entry, post-custody community corrections supervision exit

• First, middle, and last names

• Demographic information: Sex, race, Hispanic origin, education level, prior military service, date and type of last discharge from military

• Offense type and number of counts per inmate for a maximum of three convicted offenses per inmate

• Total sentence length imposed

• Type of facility where inmate is serving sentence (for year-end custody census records only, the name of the facility is also requested)

• Country of current citizenship, country of birth, and status of current U.S. citizenship

• Type of prison admission

• Type of prison release

• Location of post-custody community supervision exit or post-custody community supervision office (post-custody community supervision records only)

• Social security number

• Address of last residence prior to incarceration

• Prison security level at which the inmate is held

BJS is not proposing making additions or deletions from the previously approved collection.

BJS uses the information gathered in NCRP in published reports and statistics. The reports will be made available to the U.S. Congress, Executive Office of the President, practitioners, researchers, students, the media, others interested in criminal justice statistics, and the general public via the BJS website.

(5) An estimate of the total number of respondents and the amount of time estimated for an average respondent to respond: BJS anticipates 57 respondents to NCRP by 2024: 50 state DOC respondents and seven separate parole boards (in six states and the District of Columbia). Burden hours for the three collection years (2022-2024) differ based on whether a state has previously submitted NCRP prison and PCCS data in recent years. All 50 DOCs have recently submitted NCRP prison data, but currently, only 35 DOCs have submitted PCCS data in the last four years.

Burden Hours for Prison Records (NCRP-1A, NCRP-1B, NCRP-1D)

All 50 DOCs have recently submitted NCRP prison data, so the average time needed to continue providing prison data is expected to be 7 hours per respondent for both prisoner admissions and releases (NCRP-1A and NCRP-1B) and 7 hours for data on persons in prison at year-end (NCRP-1D). For 2022-2024, the total burden estimate of 14 hours per DOC for a total of 700 hours annually for the 50 DOCs (14 hours*50 = 70 hours). This is the same estimate as given for the 2021 collection since BJS is not requesting changes to the collection.

Burden Hours for PCCS Records (NCRP-1E, NCRP-1F)

There are currently 37 jurisdictions submitting PCCS data (32 DOCs and 5 parole boards), and BJS estimates that extraction and submission of both the PCCS entries and exits takes an average of 8 hours per jurisdiction. In 2022, BJS anticipates that 3 additional DOCs and one parole board will submit data, with the burden for each new jurisdiction being 24 hours to set up extraction programs and make the submission. Thus, the burden for PCCS records is 296 hours for those already submitting (8 hours*37 = 296 hours), and 96 hours for new submissions (24 hours*4 = 96). The total amount of time for all PCCS submissions in 2022 is 392 hours.

In 2023, BJS hope to recruit an additional 7 DOCs and the remaining parole board to submit NCRP PCCS data. The total estimate for submission of PCCS for new jurisdictions in 2023 is 192 hours (24 hours*8 = 192 hours). For those 40 DOCs and 6 parole boards currently responding, provision of the PCCS data in 2023 will total 368 hours (8 hours*46 = 368 hours). The total amount of time for all PCCS submissions in 2023 is 560 hours.

Similarly, BJS hopes that the remaining 2 DOCs will submit PCCS data for the first time in 2024. The remaining non-reporting DOCs would need a total of 48 hours to create data extraction programs and begin data submission (24 hours*2 = 48 hours). Those jurisdictions (42 DOCs and 7 parole boards) who provided NCRP PCCS data in 2023 will require 392 hours total to do the same in 2024 (8 hours*49 = 392 hours). The total amount of time for all PCCS submissions in 2024 is 440 hours.

Burden Hours for Data Review/Follow-Up Consultations

Follow-up consultations with respondents are usually necessary while processing the data to obtain further information regarding the definition, completeness and accuracy of their report. The duration of these follow-up consultations will vary based on the number of record types submitted, so BJS has estimated an average of 3 hours per jurisdiction to cover all of the records (prison and/or PCCS) submitted. In 2022, BJS anticipates that one of the two parole boards not currently submitting PCCS data will begin to submit, so the number of jurisdictions requiring follow-up consultations is 51 (50 DOCs submitting at least the prison data, and one parole board submitting only PCCS data). This yields a total of 153 hours of follow-up consultation after submission (3 hours*51 = 153 hours).

This total estimate of 153 hours for data review/follow-up consultations remains the same for 2023 and 2024.

Total Burden Hours for Submitting NCRP Data

BJS anticipates that the total burden for provision and data follow-up of all NCRP data across the participating jurisdictions in 2022-2024 to be 1,293 hours (700 hours for prison records, 440 hours for PCCS records, and 153 hours for follow-up consultation).

(6) An estimate of the total public burden (in hours) associated with the collection: There are an estimated 1,293 total burden hours associated with this collection in 2022-2024.

If additional information is required contact: Melody Braswell, Department Clearance Officer, United States Department of Justice, Justice Management Division, Policy and Planning Staff, Two Constitution Square, 145 N Street NE, 3E.405A, Washington, DC 20530.

Dated: July 8, 2021.
Melody Braswell,
Department Clearance Officer for PRA, U.S. Department of Justice.

[FR Doc. 2021-14831 Filed 7-12-21; 8:45 am]

BILLING CODE 4410-18-P